DEPARTMENT OF HOUSING AND URBAN DEVELOPMENT

[Docket No. FR-7020-N-02]

Notice of Proposed Information Collection: Comment Request; Ginnie Mae Multiclass Securities Program Documents (Forms and Electronic Data Submissions); Notice of Proposed Information Collection: Comment Request

AGENCY: Office of the President of Government National Mortgage Association (Ginnie Mae), HUD.

ACTION: Notice.

SUMMARY: The proposed information collection requirement described below will be submitted to the Office of Management and Budget (OMB) for review, as required by the Paperwork Reduction Act. The Department is soliciting public comments on the subject proposal.

DATES: Comments due: January 3, 2020.

ADDRESSES: Interested persons are invited to submit comments regarding this proposal. Comments should refer to the proposal by name and/or OMB Control Number and should be sent to: Anna Guido, QDAM, Information Reports Management Officer, Department of Housing and Urban Development, 451 7th Street SW, L'Enfant Plaza Building, Room 4186, Washington, DC 20410; email: Anna.P.Guido@hud.gov; telephone (202) 708-2384. This is not a toll-free number. Copies of available documents submitted to OMB may be obtained from Ms. Guido.

FOR FURTHER INFORMATION CONTACT: Shalei Choi, Ginnie Mae, 451 7th Street SW, Room B-133, Washington, DC 20410; email—Shalei.Choi@hud.gov; telephone—(202) 475-7820; (this is not a toll-free number); the Ginnie Mae website at www.ginniemae.gov for other available information.

SUPPLEMENTARY INFORMATION: The Department will submit the proposed information collection to OMB for review, as required by the Paperwork Reduction Act of 1995 (44 U.S.C. chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Ginnie Mae Multiclass Securities Program Documents. (Forms and Electronic Data Submissions).

OMB Control Number, if applicable: 2503-0030.

Description of the need for the information and proposed use: This information collection is required in connection with the operation of the Ginnie Mae Multiclass Securities program. Ginnie Mae's authority to guarantee multiclass instruments is contained in 306(g)(1) of the National Housing Act (“NHA”) (12 U.S.C. 1721(g)(1)), which authorizes Ginnie Mae to guarantee “securities * * * based on or backed by a trust or pool composed of mortgages. * * * ” Multiclass securities are backed by Ginnie Mae securities, which are backed by government insured or guaranteed mortgages. Ginnie Mae's authority to operate a Multiclass Securities program is recognized in Section 3004 of the Omnibus Budget Reconciliation Act of 1993 (“OBRA”), which amended 306(g)(3) of the NHA (12 U.S.C. 1271(g)(3)) to provide Ginnie Mae with greater flexibility for the Multiclass Securities program regarding fee structure, contracting, industry consultation, and program implementation. Congress annually sets Ginnie Mae's commitment authority to guarantee mortgage-backed (“MBS”) pursuant to 306(G)(2) of the NHA (12 U.S.C. 1271(g)(2)). Since the multiclass are backed by Ginnie Mae Single Class MBS, Ginnie Mae has already guaranteed the collateral for the multiclass instruments.

The Ginnie Mae Multiclass Securities Program consists of Ginnie Mae Real Estate Mortgage Investment Conduit (“REMIC”) securities, Stripped Mortgage-Backed Securities (“SMBS”), and Platinum securities. The Multiclass Securities program provides an important adjunct to Ginnie Mae's secondary mortgage market activities, allowing the private sector to combine and restructure cash flows from Ginnie Mae Single Class MBS into securities that meet unique investor requirements in connection with yield, maturity, and call-option protection. The intent of the Multiclass Securities program is to increase liquidity in the secondary mortgage market and to attract new sources of capital for federally insured or guaranteed loans. Under this program, Ginnie Mae guarantees, with the full faith and credit of the United States, the timely payment of principal and interest on Ginnie Mae REMIC, SMBS and Platinum securities.

Agency form numbers, if applicable: Not applicable.

Members of affected public: For-profit business (mortgage companies, thrifts, savings & loans, etc.).

Estimation of the total number of hours needed to prepare the information collection including number of respondents, frequency of response, and hours of response:

Information collection | Number of respondents | Frequency response | Responses per annum | Burden hour per response | Annual burden hrs | Hourly cost per response | Annual cost
REMIC Securities
Pricing Letter | 18 | 10 | 180 | 0.5 | 90 | $43 | $3,870
Structured Term Sheet | 18 | 10 | 180 | 3 | 540 | 43 | 23,220
Trust (REMIC) Agreement | 18 | 10 | 180 | 1 | 180 | 43 | 7,740
Trust Opinion | 18 | 10 | 180 | 4 | 720 | 43 | 30,960
MX Trust Agreement | 18 | 10 | 180 | 0.16 | 28.8 | 43 | 1,238
MX Trust Opinion | 18 | 10 | 180 | 4 | 720 | 43 | 30,960
RR Certificate | 18 | 10 | 180 | 0.08 | 14.4 | 43 | 619
Sponsor Agreement | 18 | 10 | 180 | 0.05 | 9 | 43 | 387
Table of Contents | 18 | 10 | 180 | 0.33 | 59.4 | 43 | 2,554
Issuance Statement | 18 | 10 | 180 | 0.5 | 90 | 43 | 3,870
Tax Opinion | 18 | 10 | 180 | 4 | 720 | 43 | 30,960
Transfer Affidavit | 18 | 10 | 180 | 0.08 | 14.4 | 43 | 619
Supplemental Statement | 18 | 0.25 | 4.5 | 1 | 4.5 | 43 | 194
Final Data Statements (attached to closing letter) | 18 | 10 | 180 | 32 | 5,760 | 43 | 247,680
Accountants' Closing Letter | 18 | 10 | 180 | 8 | 1,440 | 43 | 61,920
Accountants' OSC Letter | 18 | 10 | 180 | 8 | 1,440 | 43 | 61,920
Structuring Data | 18 | 10 | 180 | 8 | 1,440 | 43 | 61,920
Financial Statements | 18 | 10 | 180 | 1 | 180 | 43 | 7,740
Principal and Interest Factor File Specifications | 18 | 10 | 180 | 16 | 2,880 | 43 | 123,840
Distribution Dates and Statement | 18 | 10 | 180 | 0.42 | 75.6 | 43 | 3,251
Term Sheet | 18 | 10 | 180 | 2 | 360 | 43 | 15,480
New Issue File Layout | 18 | 10 | 180 | 4 | 720 | 43 | 30,960
Flow of Funds | 18 | 10 | 180 | 0.16 | 28.8 | 43 | 1,238
Trustee Receipt | 18 | 10 | 180 | 2 | 360 | 43 | 15,480
Subtotal |  |  | 4,144.50 |  | 17,874.90 |  | 768,621
Platinum Securities
Deposit Agreement | 19 | 10 | 190 | 1 | 190 | 43 | 8,170
MBS Schedule | 19 | 10 | 190 | 0.16 | 30.4 | 43 | 1,307
New Issue File Layout | 19 | 10 | 190 | 4 | 760 | 43 | 32,680
Principal and Interest Factor File Specifications | 19 | 10 | 190 | 16 | 3,040 | 43 | 130,720
Subtotal |  |  | 760 |  | 4,020.40 |  | 172,877
Total Annual Responses |  |  | 4,904.50 |  |  |  |
Total Burden Hours |  |  |  |  | 21,895.30 |  |
Total Cost |  |  |  |  |  |  | 941,498

Status of the proposed information collection: Reinstatement, with change, of a previously approved collection.

Authority: Section 3506 of the Paperwork Reduction Act of 1995, 44 U.S.C. Chapter 35 as amended.

Dated: September 26, 2019.
John Getchis,
Senior Vice President, Office of Capital Markets, Government National Mortgage Association.

[FR Doc. 2019-23961 Filed 11-1-19; 8:45 am]

BILLING CODE P